DEPARTMENT OF ENERGY

Energy Information Administration; Agency Information Collection Activities: Proposed Collection; Comment Request

AGENCY: Energy Information Administration (EIA), Department of Energy (DOE).

ACTION: Agency Information Collection Activities: Proposed Collection; Comment Request.

SUMMARY: The EIA is soliciting comments on the proposed three-year extension to Form NWPA-830R, “Appendix G—Standard Remittance Advice for Payment of Fees (including Annex A and Annex B to Appendix G).”

DATES: Comments must be filed by May 22, 2009. If you anticipate difficulty in submitting comments within that period, contact the person listed below as soon as possible.

ADDRESSES: Send comments to Tom Murphy. To ensure receipt of the comments by the due date, submission by FAX (202-287-1933) or e-mail (thomas.murphy@eia.doe.gov) is recommended. The mailing address is Office of Coal, Nuclear, Electric and Alternate Fuels, EI-52, Forrestal Building, U.S. Department of Energy, Washington, DC 20585. Alternatively, Mr. Murphy may be contacted by telephone at 202-586-1517.

FOR FURTHER INFORMATION CONTACT: Requests for additional information or copies of any forms and instructions should be directed to Mr. Murphy at the address listed above.

SUPPLEMENTARY INFORMATION:

I. Background

II. Current Actions

III. Request for Comments

I. Background

The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (44 U.S.C. 3501, et seq.), provides the general public and other Federal agencies with opportunities to comment on collections of energy information conducted by or in conjunction with the EIA. Also, the EIA will later seek approval for this collection by the Office of Management and Budget (OMB) under Section 3507(a) of the Paperwork Reduction Act of 1995.

Form NWPA-830R ‘Appendix G—Standard Remittance Advice for Payment of Fees’, and ‘Annex A and Annex B to Appendix G—Standard Remittance Advice for Payment of Fees’ are designed to serve as the source documents for entries into DOE accounting records to transmit data from Purchasers to the DOE concerning payment of their fees for spent nuclear fuel and high-level waste disposal into the Nuclear Waste Fund. The Remittance Advice (RA) must be submitted by Purchasers who signed the Standard Contract for Disposal of Spent Nuclear Fuel and/or High-Level Radioactive Waste with the DOE. Appendix G is an appendix to the Standard Contract.

Please refer to the proposed forms and instructions for more information about the purpose, who must report, when to report, where to submit, the elements to be reported, detailed instructions, provisions for confidentiality, and uses (including possible nonstatistical uses) of the information. For instructions on obtaining materials, see the “For Further Information Contact” section.

II. Current Actions

The EIA will be requesting a three-year extension of approval to its existing Form NWPA-830R ‘Appendix G—Standard Remittance Advice for Payment of Fees’ with no change to the existing collection. The NWPA-830R, ‘Appendix G—Standard Remittance Advice for Payment of Fees’ is required to transmit data from Purchasers to the DOE concerning payment of their fees into the Nuclear Waste Fund, as required by the Standard Contract for Disposal of Spent Nuclear Fuel and/or High-Level Radioactive Waste.

III. Request for Comments

Prospective respondents and other interested parties should comment on the actions discussed in item II. The following guidelines are provided to assist in the preparation of comments. Please indicate to which form(s) your comments apply.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. To complete the Form NWPA-830R ‘Appendix G—Standard Remittance Advice for Payment of Fees’ the average time per response is 5 hours. The data for the Form NWPA-830R is collected quarterly. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential Data User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 3507(h)(1) of the Paperwork Reduction Act of 1995, Federal Energy Administration Act of 1974 (15 U.S.C. 761 et seq.), and the DOE Organization Act (42 U.S.C. 7101 et seq.).

Issued in Washington, DC, March 10, 2009.
Renee Miller,
Director, Forms Clearance and Information Quality Division, Statistics and Methods Group, Energy Information Administration.

[FR Doc. E9-6335 Filed 3-20-09; 8:45 am]

BILLING CODE 6450-01-P